DEPARTMENT OF AGRICULTURE

Food and Nutrition Service

Agency Information Collection Activities: Proposed Collection: Comment Request—Background Investigation Request for Contractor Employees—FNS-775

AGENCY: Food and Nutrition Service (FNS), USDA.

ACTION: Notice.

SUMMARY: In accordance with the Paperwork Reduction Act of 1995, this notice invites the general public and other public agencies to comment on the proposed information collection. This is an update of a currently approved collection. The purpose of this information collection request is to continue the use of the electronic form FNS-775, titled “Background Investigation Request for Contractor Employees.” This form will continue to provide for the collection of Personal Identification Information required in the conduct of a background investigation which is a pre-requisite for the contractor employees to be granted a security clearance for employment at all FNS locations.

DATES: Written comments must be received on or before September 7, 2018.

ADDRESSES: Comments are invited on: (a) Whether the proposed collection of information is necessary for the proper performance of the functions of the agency, including whether the information shall have practical utility;

(b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Joseph Binns, Food and Nutrition Service, U.S. Department of Agriculture, 3101 Park Center Drive, Room 317, Alexandria, VA 22302. Comments may also be submitted via email to Joseph.Binns@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Joseph Binns at 703-605-1181.

SUPPLEMENTARY INFORMATION:

Title: Background Investigation Request for Contractor Employees Form.

Form Number: FNS-775.

OMB Number: 0584-NEW.

Expiration Date: Not yet determined.

Type of Request: Update of a currently approved collection.

Abstract: Form FNS-775 is designed to collect user information required to conduct background investigations for contractor employees required in order to grant security clearances for contractor employees.

Affected Public: Contractors, FNS.

Estimated Number of Respondents: 750.

The respondents are contractor employees at all FNS locations across the nation, inclusive of the FNS Headquarters in Alexandria, VA and at the seven (7) FNS regional offices across the USA. The estimated annual number of respondents who will be required to complete the FNS-775 for requisite background investigation requests for contract employees is 750.

Estimated Number of Responses per Respondent: 1.

Estimated Total Annual Responses: 750.

Estimated Time per Response: 0.167 of an hour. Each respondent takes approximately 0.167 of an hour, or 10 minutes, to complete the required information on the online form.

Estimated Total Annual Burden on Respondents: 125 hours. See the table below for estimated total annual burden for each type of respondent.

Estimated Total Annual Burden on Respondents
Affected public | Form number | Number of respondents | Number of responses annually per respondent | Total annual responses | Estimate of burden hours per response | Total annual burden hours
Contractors | FNS-775 | 750 | 1 | 750 | 0.16667 (10 minutes) | 125
Annualized Totals |  | 750 | 1 | 750 | 10 minutes | 125

Dated: June 19, 2018.
Brandon Lipps,
Administrator, Food and Nutrition Service.

[FR Doc. 2018-14539 Filed 7-6-18; 8:45 am]

BILLING CODE 3410-30-P